DEPARTMENT OF DEFENSE

Office of the Secretary

[Docket ID: DoD-2013-OS-0079]

Privacy Act of 1974; System of Records

AGENCY: Defense Information Systems Agency, DoD.

ACTION: Notice to delete three Systems of Records Notices.

SUMMARY: The Defense Information Systems Agency is deleting three systems of records notices in its existing inventory of record systems subject to the Privacy Act of 1974 (5 U.S.C. 552a), as amended.

DATES: This proposed action will be effective on May 13, 2013 unless comments are received which result in a contrary determination. Comments will be accepted on or before May 13, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jeanette Weathers-Jenkins, 6916 Cooper Avenue, Fort Meade, MD 20755-7901, or (301) 225-8158.

SUPPLEMENTARY INFORMATION: The Defense Information Systems Agency systems of records notices subject to the Privacy Act of 1974 (5 U.S.C. 552a), as amended, have been published in the Federal Register and are available from the address in FOR FURTHER INFORMATION CONTACT. The proposed deletions are not within the purview of subsection (r) of the Privacy Act of 1974 (5 U.S.C. 552a), as amended, which requires the submission of a new or altered system report.

Dated: April 1, 2013.
Aaron Siegel,
Alternate OSD Federal Register Liaison Officer, Department of Defense.

Deletions:

K317.01, Mishap Report (February 22, 1993, 58 FR 10562)

KPAC-05, 403-03 Injury Records (February 22, 1993, 58 FR 10562)

K232.02, Injury Record File (February 22, 1993, 58 FR 10562)

Reason:

Based on a recent review of the systems of records notices, K317.01, Mishap Report, KPAC-05, 403-03 Injury Records, and K232.02, Injury Record File, are covered by the Government wide system of records notice OPM/GOVT-10, Employee Medical File System Records (June 21, 2010, 75 FR 35099). Therefore, these notices can be deleted. Government-wide notices can be found at http://dpclo.defense.gov/privacy/SORNs/govt/OPMGOVT-10.html.

[FR Doc. 2013-08437 Filed 4-10-13; 8:45 am]

BILLING CODE 5001-06-P